FEDERAL COMMUNICATIONS COMMISSION

Notice of Public Information Collection(s) Being Reviewed by the Federal Communications Commission, Comments Requested

April 2, 2001.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before June 8, 2001. If you anticipate that you will be submitting comments, but find it difficult to do so within the period of time allowed by this notice, you should advise the contact listed below as soon as possible.

ADDRESSES: Direct all comments to Les Smith, Federal Communications Commissions, 445 12th Street, SW., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0629.

Title: Section 76.987 New Product Tiers.

Form Number: n/a.

Type of Review: Extension of a currently approved collection.

Respondents: Business and other for-profit entities.

Number of Respondents: 500.

Estimated Time Per Response: .5 hours.

Total Annual Burden to Respondents: The Commission estimates that approximately 500 NPT filings will be received each year. The average burden to cable operators to comply with this filing requirement is estimated to be .5 hours per filing. 500 filings × .5 hours = 250 burden hours.

Total Annual Costs: $ 0.00.

Needs and Uses: Section 76.987(g) states that within 30 days of the offering of a new product tier (“NPT”), operators shall file with the Commission, a copy of the new rate card that contains the following information on their basic service tiers (“BSTs”), cable programming services tiers (CPSTs”) and NPTs: (1) The names of the programming services contained on each tier, and (2) the price of each tier. Operators also must file with the Commission, copies of notifications that were sent to subscribers regarding the initial offering of NPTs. After this initial filing, cable operators must file updated rate cards and copies of customer notifications with the Commission within 30 days of rate or service changes affecting the NPT. The information collections are used by the Commission to verify compliance and to ensure that subscribers are given due notice of NPT offerings.

Federal Communications Commission.
Magalie Roman Salas,
Secretary.

[FR Doc. 01-8567 Filed 4-6-01; 8:45 am]

BILLING CODE 6712-01-U